Proclamation 9204 of October 31, 2014

National Diabetes Month, 2014

By the President of the United States of America

A Proclamation

Today, nearly 30 million Americans have diabetes. This devastating disease affects men and women of all backgrounds and ages, and can cause serious health complications, including blindness, kidney failure, heart disease, stroke, and the loss of lower limbs. During National Diabetes Month, we stand with all those battling this chronic, life-threatening disease and their families, and we pay tribute to the advocates, researchers, and health care professionals who are committed to supporting healthy lifestyles in communities across our country.

Most commonly diagnosed in young people, type 1 diabetes has no known method of prevention. However, it can be managed with regular exercise, good nutrition, and proper medication. Type 2 diabetes accounts for roughly 90 to 95 percent of diagnosed cases of diabetes in adults, and the risk of developing it is commonly associated with older age, obesity, physical inactivity, and a family history of diabetes. African Americans, Hispanic Americans, American Indians, and some Asian Americans and Pacific Islanders are at particularly high risk for this disease and its complications. In some cases, losing weight, eating healthy, and being more active can help prevent or delay type 2 diabetes. Americans who are at risk for this disease can consult with a health care provider to discuss the steps they can take to reduce their chances of developing diabetes.

My Administration is committed to finding a cure for both type 1 and type 2 diabetes, and we continue to invest in critical research to prevent this disease, increase the quality of care, and reduce its devastating complications. Established to help translate the important findings of this research into practice, the National Diabetes Education Program works to raise awareness of this disease among high risk individuals and to improve treatment and outcomes for those living with it. To learn more about diabetes, individuals can visit www.NDEP.NIH.gov.

The Affordable Care Act prevents health insurance companies from denying coverage due to a pre-existing condition, such as a diabetes diagnosis, and requires that insurers cover recommended diabetes screenings without a copay for adults with high blood pressure. My Administration also encourages public-private partnerships that are helping Americans at risk of type 2 diabetes take action to prevent the onset of the disease. And as more than one-third of American children and adolescents are overweight or obese—putting a new generation at risk for diabetes—First Lady Michelle Obama's Let's Move! initiative seeks to increase opportunities for young people to engage in physical activity and make healthy choices.

All Americans deserve the chance to lead healthy lives and achieve their full potential. During National Diabetes Month, we honor the memory of those we have lost to diabetes, and we recommit to pursuing solutions that will shed light on this disease, moving our Nation closer to a healthier tomorrow for all.

NOW, THEREFORE, I, BARACK OBAMA, President of the United States of America, by virtue of the authority vested in me by the Constitution and the laws of the United States, do hereby proclaim November 2014 as National Diabetes Month. I call upon all Americans, school systems, government agencies, nonprofit organizations, health care providers, research institutions, and other interested groups to join in activities that raise diabetes awareness and help prevent, treat, and manage the disease.

IN WITNESS WHEREOF, I have hereunto set my hand this thirty-first day of October, in the year of our Lord two thousand fourteen, and of the Independence of the United States of America the two hundred and thirty-ninth.

[FR Doc. 2014-26491

Filed 11-5-14; 8:45 am]

Billing code 3295-F5